DEPARTMENT OF COMMERCE

Bureau of Industry and Security

Regulations and Procedures Technical Advisory Committee; Notice of Partially Closed Meeting

The Regulations and Procedures Technical Advisory Committee (RPTAC) will meet March 2, 2004, 9:00 a.m., Room 3884, in the Herbert C. Hoover Building, 14th Street between Constitution and Pennsylvania Avenues, N.W., Washington, D.C. The Committee advises the Office of the Assistant Secretary for Export Administration on implementation of the Export Administration Regulations (EAR) and provides for continuing review to update the EAR as needed.

Agenda

Public Session

1. Opening remarks by the Chairman

2. Presentation of papers or comments by the public

3. Update on pending regulations

4. Update on technology controls

5. Discussion on deemed exports/re-ports

6. Discussion on encryption controls

7. Discussion on “red flags”

8. Discussion on country group revisions

9. Update on the Automated Export System

10. Status reports from working groups

Closed Session

11. Discussion of matters that would include the disclosure of trade secrets and commercial or financial information deemed privileged or confidential as described in 5 U.S.C. 552b(c)(4) and of matters the premature disclosure of which would be likely to frustrate implementation of a proposed agency action as described in 5 U.S.C. 552b(c)(9)(B).

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to the following address: Ms. Lee Ann Carpenter, EA/BIS MS: 1099D, U.S. Department of Commerce, 14th St. & Constitution Ave., NW., Washington, DC 20230.

The Assistant Secretary for Administration, with the concurrence of the delegate of the General Counsel, formally determined on February 5, 2004, pursuant to section 10(d) of the Federal Advisory Committee Act, as amended, that the portion of the meeting dealing with trade secrets and commercial or financial information deemed privileged or confidential as described in 5 U.S.C. 552b(c)(4) and the portion of the meeting dealing with matters the disclosure of which would be likely to frustrate the implementation of agency action as described in 5 U.S.C. 552b(c)(9)(B) shall be exempt from the provisions relating to public meetings found in 5 U.S.C. app. 2-10(a)1 and 10(a)(3).

The remaining portions of the meeting will be open to the public.

For more information, call Lee Ann Carpenter at (202) 482-2583.

Dated: February 9, 2004.
Lee Ann Carpenter,
Committee Liaison Officer.

[FR Doc. 04-3124 Filed 2-11-04; 8:45 am]

BILLING CODE 3510-JT-M